DEPARTMENT OF HEALTH AND HUMAN SERVICES

Announcement of Availability of Funds for Cooperative Agreement To Provide Technical Assistance and Support to the Afghan Ministry of Public Health (MOPH) in Strengthening the Management of the Women's and Children's Hospitals in Kabul, Afghanistan

AGENCY: Office of Global Health Affairs, Office of the Secretary, Department of Health and Human Services (DHHS).

ACTION: Notice.

Announcement Type: Single Eligibility—FY 2006 Initial Announcement.

Funding Opportunity Number: OGHA 06-025.

GSA Catalog Of Federal Domestic Assistance: 93.017.

KEY DATES: September 19, 2006, Application Availability. September 26, 2006, Optional Letter of Intent due by 5 p.m. e.t. October 4, 2006, Applications due by 5 p.m. e.t.

SUMMARY: In partnership with the Afghan Ministry of Public Health (MOPH), the Office of Global Health Affairs (OGHA) within the U.S. Department of Health and Human Services (HHS), announces that up to $1,750,000 in Fiscal Year (FY) 2006 funds is available for ONE (1) cooperative agreement to provide support as a single-source performance-based cooperative agreement to provide the Afghan MOPH with direct support for the development of a regional network of Maternal-Child Care including community health centers, polyclinics and secondary and tertiary hospitals in Kabul for the purpose of coordinating planning and program development. The primary goal of this project is to improve the quality of care at women's and children's health institutions in Afghanistan. HHS/OGHA anticipates substantial HHS scientific and programmatic involvement in the administration of the quality-improvement program. The project will be for a program period of three (3) years, and individual budget periods of one (1) year, for a total of $1,750,000.

I. Funding Opportunity Description

Authority: Department of Health and Human Services Appropriations Act, 2006, Title II, Pub. L. No. 109-149, 119 Stat. 2833, 2844 (2005) and section 103(a)(4)(H) of the Afghan Freedom Support Act , 2002, Pub. L. 107-327, 116 Stat. 2797.

Purposes of the Agreement

HHS, in partnership with other relevant U.S. Government departments and agencies, anticipates involvement in the development, administration and oversight of this program to improve hospital-management capacity within the Afghan MOPH. The program will be for a program period of three (3) years and individual budget periods of one (1) year. Approximately a total of $1,750,000 will be available for the three-year program period.

This cooperative agreement complements and builds upon the work of the Afghan MOPH Hospital Management Task Force (HMTF) and its efforts to implement the Essential Package of Hospital Services (EPHS) and the recommendations of the Joint U. S. Government/Afghan MOPH health-facility management planning team, as outlined above. Implementation and adherence to recognized evidence-based health-care and facility-management standards will be essential elements of a successful proposal.

The primary goal of this project is to organize and establish a seamless and sustainable integration system for the delivery of the full range of quality prenatal, intrapartum, postpartum care, including health promotion, prevention, maintenance and professional care for pregnant women and their neonates. While this agreement is focused on Kabul, the Afghan MOPH has the ultimate goal of implementing this model in other Provinces.

The integration will promote a two-way referral system to originate and end at the community level in the Comprehensive Health Centers and Polyclinics, with appropriate care provided at the secondary- and tertiary-care hospitals in Afghanistan.

This system will ensure the provision of the continuum of care in Kabul, including ambulatory care, acute care, and possibly home care and home visits.

A second goal is to ensure that care at the horizontal level is also appropriate, and that a workable and effective linkage exists between the maternity, newborn and pediatric secondary- and tertiary-care hospitals.

A third goal is to develop an interface between public central, regional and local health systems and the emerging private-sector health sector.

A fourth goal is to develop a mechanism whereby there is a rationalization method that provides for the sharing of care, the consolidation and coordination of clinical care and the joint planning for the future development of maternal, neonate and pediatric care within Kabul City.

In consultation with OGHA, the Afghan MOPH will set the vision and direction for the health system, will outline the priorities, will create the policies to achieve the vision, and will play the oversight role in both the public and private sectors.

The award recipient will design and implement a formal work plan. This three-year plan will do the following:

• Develop a model for specialized tertiary care in maternal, neonate, and infant care that details the clinical, diagnostic interventions to be provided for high-risk and low-risk maternity, neonate and infant patients;

• Develop a model for tertiary care for children that details the clinical and diagnostic interventions to be provided for infant and child patients and provides supportive supervision in Kabul;

• Identify the administrative and support services;

• List and justify the procurement of essential equipment, supplies and pharmaceuticals;

• Develop a system for equipment management and training;

• Examine the feasibility for sharing of support services, including blood bank, pharmacy and laboratory;

• Establish a business plan for group-purchasing activities, with projected cost savings;

• Assess the clinical and management training needs of personnel to establish and sustain high-quality care;

• Assess competency and train community health workers for the provision of basic care and community-awareness activities;

• Evaluate the feasibility of cooperative education planning within health-care institutions, and universities and the Institute for Health Sciences in Kabul;

• Develop vertical and horizontal referral systems, including protocols and procedures with all appropriate health-care facilities in Kabul to advance the integration of basic, secondary and tertiary specialized care;

• Plan the logistical system needed for rapid response, including transport and communication;

• Plan for development and implementation of a Regional Health Information System in Afghanistan for ensuring vital records and the data management of routine and non-routine maternal-child monitoring-and-evaluation information;

• Identify methods to increase community input into the overall oversight of the hospitals;

• Plan for the development and management of a community advocacy program through the media;

• Create a monitoring-and-evaluation plan for incorporating and implementing standards of care for best practices at all community health centers, polyclinics and secondary- and tertiary-care hospitals in Kabul;

• Conduct a comprehensive evaluation of all required elements and conditions, including outcome measures for effectiveness and efficiency; and

• Create a 24-hour service for ensuring access to appropriate care in Kabul.

The Afghan MOPH will be responsible for preparing any sub-recipient request for application (RFA), conducting the RFA announcement and competition process, awarding the grant(s) and monitoring the grant(s) performance.

II. Award Information

The administrative and funding instrument for this program will be the cooperative agreement, in which HHS will have substantial scientific and/or programmatic involvement during the performance of the project. Under the cooperative agreement, HHS/OGHA will support and/or stimulate awardee activities by working with them in a non-directive partnership role. HHS staff will be substantially involved in the program activities, above and beyond routine monitoring. Through this cooperative agreement, HHS will collaborate in an advisory capacity with the award recipient, especially during the development and implementation of a mutually agreed-upon work plan. HHS will actively participate in periodic progress reviews, and in a final evaluation of the program.

Approximately $1,750,000 in FY 2006 funds is available under the Department of Health and Human Services Appropriations Act, 2006, Title II, Pub. L. No. 109-149, 119 Stat. 2833, 2844 (2005) to support this agreement.

The anticipated start date is September 15, 2006. There will only be one, single award made from this announcement. The project period for this agreement is for three years with individual budget periods of 12 months for a total of $1,750,000.

The award recipient must comply with all HHS management requirements for meeting progress against milestones and for financial reporting for this cooperative agreement. (Please see HHS Activities and Program Evaluation Sections below.)

HHS/OGHA activities for this program are as follows:

• Organize an orientation meeting after the award is made with the award recipient to discuss applicable U.S. Government expectations as stated in this RFA, regulations, policies and key management requirements, as well as report formats and contents.

• Review and approve the award recipient's work plan and detailed budget.

• Review and approve the award recipient's monitoring evaluation plan.

• Conference on a monthly basis with the award recipient to assess monthly expenditures in relation to approved work plan, and modify plans, as necessary.

• Meet on an annual basis with the award recipient to review the progress report for each U.S. Government Fiscal Year.

• Assure experienced HHS or other subject-matter experts from other relevant U.S. Government departments and agencies will participate in the planning, development, implementation, and evaluation of all phases of this project.

• Assist in establishing and maintaining U.S. Government, the Afghan MOPH, and non-governmental organizations (NGOs) contracts and agreements necessary to carry out the program.

Program Evaluation Criteria:

The application must have a comprehensive evaluation plan consistent with the scope, stated goals and objectives and funding level of the project. The evaluation plan should include both a process evaluation to track the implementation of project activities and outcome evaluation criteria.

In addition to conducting internal evaluations, successful applicant must be prepared to participate in external evaluations supported by the Afghan MOPH and HHS. In addition to routine communications with the Afghan MOPH and HHS within 30 days following the end of each quarter, the grantee will submit a written quarterly performance and financial status report of no more than ten pages in length to the Ministry and HHS. At a minimum, quarterly performance reports will include the following:

• A concise summary of the most significant achievements and problems encountered during the reporting period, e.g. a comparison of work progress with objectives established for the quarter against the award recipient's implementation schedule. Where the awardee does not meet objectives, the report must include a statement of cause and a summary of corrective actions.

• Specific action(s) HHS and/or the Afghan MOPH needs to undertake to alleviate obstacles to progress.

• Other pertinent information that will permit overview and evaluation of project operations.

Within 90 days following the end of each project period, the awardee must submit a final report that contains all required information and data to MOPH and HHS. At minimum, the report will contain the following:

• A summary of the major activities supported under the cooperative agreement, and the major accomplishments that resulted from activities to improve performance.

• An analysis of the project, based on the challenges described in the “Background” Section of the RFA performed prior to or during the project period, including a description of the specific objectives stated in the grant application and the accomplishments and failures that resulted from activities during the grant agreement period. Awardees should place emphasis on indicators and measures of operational efficiency and effectiveness.

III. Eligibility Information

1. Eligible Applicants

This is a single-source, cooperative agreement with the Afghan Ministry of Public Health (MOPH). The U.S. Government remains committed to supporting efforts to improve the health status of women and children, while assisting in the further development of Afghanistan's overall health-care infrastructure. This proposal builds upon the Afghanistan Year 1384 National Development Budget for Health and Nutrition (NDB), which outlines the Afghan Government's spending priorities for the fiscal year. This cooperative agreement will supplement the NDB's current funding support levels which, thereby continues HHS's prior commitments to improve women's and children's health in Afghanistan. It also builds upon the “contracting out” model currently promoted by the MOPH for future support of their facilities, and supports HHS Secretary Michael O. Leavitt's 500-Day Plan to support emerging democracies through health diplomacy. Additionally, this cooperative agreement is a contribution by OGHA to support much-needed efforts to rebuild Afghanistan's health care system, which is under the direct control and governance of the Ministry of Public Health. More specifically, this agreement supports Afghanistan's maternal health care system by improving the capacity of the public health services of the Afghanistan government through the Ministry of Public Health. For these reasons, OGHA has committed to working with the Afghan Minister of Health on the tasks stated in this agreement, which therefore makes this requirement a single-eligibility cooperative agreement.

With funding from the cooperative agreement, the Afghan MOPH will be able to continue to develop the standards and policies for the tertiary-care component of the system or the acute and specialized hospitals that exist for obstetrical/gynecological, neonatal and sick newborns. This funding will permit the Reproductive Health Task Force within the Afghan MOPH to engage the assistance of expertise to support its present multiple activities in developing a sustainable health-care system and support the capacity-building of the Ministry. Though directed primarily at Kabul City, the development of a vertical integration system will eventually serve as a model to replicate in the remaining Afghan Provinces.

2. Cost-Sharing or Matching

Although cost-sharing, matching funds, and cost participation are not a requirement of this agreement, if the applicants receive funding from other sources to underwrite the same or similar activities, or anticipate receiving such funding in the next 12 months, they must detail how the disparate streams of financing complement each other.

3. Other—(If Applicable)

N/A.

IV. Application and Submission Information

1. Address To Request Application Package

This Cooperative Agreement project uses the Application Form HHS Office of Public Health and Science (OPHS) OPHS-1, Revised 8/2004, enclosed in the application packet. Many different programs funded through the HHS Public Health Service (PHS) use this generic form. Some parts of it are not required; the applicant need to fill out other sections in a fashion specific to the program. Instructions for filling out HHS/OPHS-1, Revised 8/2004 will come in the application packet. The applicant may also obtain these forms by downloading from the following Internet addresses: https://egrants.osophs.dhhs.gov and clicking on Grant Announcements; or from http://www.grants.gov/; or by writing to Ms. Karen Campbell, Director, Office of Grants Management, Office of Public Health and Science, U.S. Department of Health and Human Services, Tower Building, 1101 Wootton Parkway, Suite 550, Rockville, MD 20852; or by contacting the HHS/OPHS Office of Grants Management, at 1-(240) 453-8822. Please specify the HHS/OGHA program(s) for which you are requesting an application kit.

2. Content and Form of Application Submission

Application Materials

A separate budget page is required for each budget year. The applicant must submit with their proposals a line-item budget (SF 424A) with coinciding justification to support each of the budget years. These forms will represent the full project period of Federal assistance requested. HHS/OGHA will reject proposals submitted without a budget and justification for each budget year requested in the application.

The applicant must include in their application a Project Abstract, submitted on 3.5-inch floppy disk. The abstract must be typed, single-spaced, and not exceed two (2) pages. Reviewers and staff will refer frequently to the information contained in the abstract, and therefore it should contain substantive information about the proposed projects in summary form. A list of suggested keywords and a format sheet for your use in preparing the abstract will accompany the application packet.

The applicant must include a Project Narrative in their grant applications. Format requirements are the same as for the “Project Abstract” Section; margins should be one inch at the top and one inch at the bottom and both sides; and typeset must be no smaller than 12 cpi and unreduced. The applicant should type biographical sketches either on the appropriate form or on plain paper and they should not exceed two pages; list only publications directly relevant to this project.

Application Format Requirements

If an applicant is applying on paper, the entire application may not exceed 80 pages in length, including the abstract, project and budget narratives, face page, attachments, any appendices and letters of commitment and support. The applicant must number pages consecutively.

HHS/OGHA will deem non-compliant applications submitted electronically that exceed 80 pages when printed and will return them to the applicant without further consideration.

a. Number of Copies.

If submitting in hard-copy, please submit one (1) original and two (2) unbound copies of the application. Please do not bind or staple the application. Application must be single sided.

b. Font.

Please use an easily readable serif typeface, such as Times Roman, Courier, or CG Times. The applicant must submit the text and table portions of the application in not less than 12-point and 1.0 line spacing. HHS/OGHA will deem non-compliant applications that do not adhere to the 12-point font requirement.

c. Paper Size and Margins.

For scanning purposes, please submit the application on 8½″ x 11″ white paper. Margins must be at least one (1) inch at the top, bottom, left and right of the paper. Please left-align text.

d. Numbering.

Please number the pages of the application sequentially from page one (face page) to the end of the application, including charts, figures, tables, and appendices.

e. Names.

Please include the name of the applicant on each page.

f. Section Headings.

Please put all section headings flush left in bold type.

Application Format

An application for funding must consist of the following documents in the following order:

i. Application Face Page

HHS/ PHS Application Form OPHS-1, provided with the application package. Prepare this page according to instructions provided in the form itself.

DUNS Number

All applicant organizations must have a Data Universal Numbering System (DUNS) number to apply for a grant from the Federal Government. The DUNS number is a unique, nine-character identification number provided by the commercial company Dun and Bradstreet. There is no charge to obtain a DUNS number. Information about obtaining a DUNS number is available at the following Internet address: https://www.dnb.com/product/eupdate/requestOptions.html or by calling 1-866-705-5711. Please include the DUNS number next to the Office of Management and Budget (OMB) Approval Number on the application face page. HHS/OGHA will not review applications that do not have a DUNS number.

Additionally, the applicant organization must register with the Federal Government's Central Contractor Registry (CCR) to do electronic business with the Federal Government. Information about registering with the CCR is available at the following Internet address: http://www.hrsa.gov/grants/ccr.htm.

Finally, the applicant that apply electronically through Grants.gov must register with the Credential Provider for Grants.gov. Information about this requirement is available at.the following Internet address: http://www.grants.gov/CredentialProvider.

The applicant that are applying electronically through the HHS/OPHS E-Grants System must register with the provider. Information about this requirement is available at the following Internet address: https://egrants.osophs.dhhs.gov.

ii. Table of Contents

Provide a Table of Contents for the remainder of the application (including appendices), with page numbers.

iii. Application Checklist

Application Form HHS/OPHS-1, provided with the application package.

iv. Budget

Application Form HHS/OPHS-1, provided with the application package.

v. Budget Justification

The applicant must enter the amount of financial support (direct costs) they are requesting from the Federal granting agency for the first year on the Face Sheet of Application Form HHS/PHS 5161-1, Line 15a. The application should include funds for electronic-mail capability, unless access to the Internet is already available. The amount of financial support (direct costs) entered on the SF 424 is the amount an applicant is requesting from the Federal granting agency for the project year

Personnel Costs: The applicant should explain their personnel costs by listing each staff member supported from Federal funds, name (if possible), position title, percent full-time equivalency, annual salary, and the exact amount requested.

Fringe Benefits: The applicant must list the components that comprise the fringe benefit rate, for example, health insurance, taxes, unemployment insurance, life insurance, retirement plan, tuition reimbursement. The fringe benefits should be directly proportional to that portion of personnel costs allocated for the project.

Travel: The applicant must list travel costs according to local and long distance travel. For local travel the applicant should outline the mileage rate, number of miles, reason for the travel and the staff member/consumers who will be completing the travel.

Equipment: The applicant must list equipment costs, and provide justification for the need of the equipment to carry out the program's goals. The applicant must provide an extensive justification and a detailed status of current equipment when they request funds for the purchase of computers and furniture items.

Supplies: The applicant must list the items the project will use. In this category, separate office supplies from medical and educational purchases. “Office supplies” could include paper, pencils, and the like; “medical supplies” are syringes, blood tubes, plastic gloves, etc., and “educational supplies” can be pamphlets and educational videotapes. The applicant must list these categories separately.

Subcontracts: To the extent possible, the applicant should standardize all subcontract budgets and justifications, and should present contract budgets by using the same object-class categories contained in the Standard Form 424A. The applicant must provide a clear explanation as to the purpose of each contract, how the organization estimated the costs, and the specific contract deliverables.

Other: The applicant must put all costs that do not fit into any other category into this category, and provide an explanation of each cost in this category.

vi. Staffing Plan and Personnel Requirements

The applicant must present a staffing plan, and provide a justification for the plan that includes education and experience qualifications and the rationale for the amount of time requested for each staff position. The applicant must include in Appendix B position descriptions that include the roles, responsibilities, and qualifications of proposed project staff. The applicant must include in Appendix C copies of biographical sketches for any key employed personnel assigned to work on the proposed project.

vii. Project Abstract

The applicant must provide a summary of the application. Because HHS/OHGA often distributes the abstract to provide information to the American public and the U.S. Congress, the applicant should prepare this so it is clear, accurate, concise, and without reference to other parts of the application. It must include a brief description of the proposed grant project, including the needs addressed, the proposed work, and the population group(s) served.

The applicant must place the following at the top of the abstract:

• Project title;

• Applicant name;

• Address;

• Contact phone numbers (voice, fax);

• E-mail address; and

• Web site address, if applicable.

The project abstract must be single-spaced and limited to two pages in length.

viii. Program Narrative

This section provides a comprehensive framework and description of all aspects of the proposed program. It should be succinct, self-explanatory and well-organized so reviewers can understand the proposed project.

The applicant should use the following section headers for the Narrative:

• Introduction.

This section should briefly describe the purpose of the proposed project.

• Work Plan.

The applicant should describe the activities or steps to achieve each of the activities proposed in the methodology section and use a time line that includes each activity and identifies responsible staff.

• Resolution of Challenges.

The applicant should discuss likely challenges designing and implementing the activities described in the Work Plan, and approaches to resolve such challenges.

• Evaluation and Technical Support Capacity.

The applicant should describe their current, relevant experience, skills, and knowledge, including individuals on staff, materials published, and previous work of a similar nature.

• Organizational Information.

The applicant should provide information on their current mission and structure, scope of current activities, and an organizational chart, and describe how these all contribute to the ability of the organization to conduct the program requirements and meet program expectations.

ix. Appendices

The applicant must provide the following items to complete the content of their applications. Please note these are supplementary in nature, and are not a continuation of the project narrative. The applicant should label each appendix.

(1) Appendix A: Tables, Charts, etc. To give further details about the proposal.

(2) Appendix B: Job Descriptions for Key Personnel. The applicant should keep each to one page in length as much as possible. Item 6 in the “Program Narrative” section of the HHS/PHS 5161-1 Form provides some guidance on items to include in a job description.

(3) Appendix C: Biographical Sketches of Key Personnel. The applicant should include biographical sketches for persons who are occupying the key positions described in Appendix B, not to exceed two pages in length. In the event an applicant includes a biographical sketch for an identified individual not yet hired, it must include a letter of commitment from that person with the biographical sketch.

(4) Appendix D: Letters of Agreement and/or Description(s) of Proposed/Existing Contracts (project specific). The applicant must provide any documents that describe working relationships between the applicant agency and other agencies and programs cited in the proposal. Documents that confirm actual or pending contractual agreements should clearly describe the roles of the subcontractors and any deliverable. Letters of Agreement must be dated.

(5) Appendix E: Organizational Chart for the Project. The applicant must provide a one-page figure that depicts the organizational structure of the project, including subcontractors and other significant collaborators.

(6) Appendix F: Other Relevant Documents. Include here any other documents relevant to the application, including letters of support. Letters of support must be dated.

3. Submission Dates and Times

Application Submission

HHS/OPHS provides multiple mechanisms for the submission of applications, as described in the following sections. The applicant will receive notification via mail from the HHS/OPHS Office of Grants Management to confirm the receipt of applications submitted using any of these mechanisms. The HHS/OPHS Office of Grants Management will not accept for review applications submitted after the deadlines described below. HHS/OPHS will not accept for review applications that do not conform to the requirements of the grant announcement, and return them to the applicant.

The applicant may only submit electronically via the electronic submission mechanisms specified below. HHS will not accept for review any applications submitted via any other means of electronic communication, including facsimile or electronic mail. While HHS will accept applications in hard-copy, we encourage the use of the electronic application submission capabilities provided by the HHS/OPHS eGrants system or the Grants.gov Web site Portal. Electronic Submissions via the Grants.gov Web site Portal. The Grants.gov Web site Portal provides organizations with the ability to submit applications for HHS/OPHS grant opportunities. Organizations must successfully complete the necessary registration processes to submit an application. Information about this system is available on the Grants.gov Web site at the following Internet address: http://www.grants.gov.

In addition to electronically submitted materials, The applicant may be required to submit hard-copy signatures for certain Program-related forms, or original material as required by the announcement. The applicant must review both the grant announcement, and the application guidance provided within the Grants.gov application package, to determine such requirements. The applicant must submit any required hard copy materials, or documents that require a signature, separately via mail to the OPHS Office of Grants Management, which, if required, must contain the original signature of an individual authorized to act for the applicant agency and the obligations imposed by the terms and conditions of the grant award.

Electronic applications submitted via the Grants.gov Web site Portal must contain all completed online forms required by the application kit, the Program Narrative, Budget Narrative and any appendices or exhibits. HHS must receive all required mail-in items by the due date requirements specified above. Mail-in items may only include publications, résumés, or organizational documentation.

Upon completion of a successful electronic application submission via the Grants.gov Web site Portal, the applicant will receive a confirmation page from Grants.gov to indicate the date and time (eastern time) of the electronic application submission, as well as a Grants.gov Receipt Number. The applicant must print and retain this confirmation for their records, as well as a copy of the entire application package.

Grants.gov will validate all applications submitted via the Grants.gov Web site Portal. Any applications deemed “Invalid” by the Grants.gov Web site Portal will pass on the HHS/OPHS eGrants system, and HHS/OPHS has no responsibility for any application not validated and transferred to HHS/OPHS from the Grants.gov Web site Portal. Grants.gov will notify the applicant regarding the application validation status. Once the Grants.gov Web site Portal has successfully validated an application, the applicant should immediately mail all required hard-copy materials to the HHS/OPHS Office of Grants Management by the deadlines specified above. The applicant must clearly identify their organizations name and Grants.gov Application Receipt Number on all hard-copy materials.

Once Grants.gov has validated an application, it will electronically transferred proceed to the HHS/OPHS eGrants system for processing. Upon receipt of both the electronic application from the Grants.gov Web site Portal, and the required hard-copy mail-in items, the applicant will receive notification via mail from the HHS/OPHS Office of Grants Management to confirm the receipt of the application submitted by the Grants.gov Web site Portal.

The applicant should contact Grants.gov regarding any questions or concerns regarding the electronic application process conducted through the Grants.gov Web site Portal.

Electronic Submissions via the HHS/OPHS eGrants System. The HHS/OPHS electronic grants-management system, eGrants, provides for the electronic submission of applications. Information about this system is available on the HHS/OPHS eGrants Web site at the following Internet address: https://egrants.osophs.dhhs.gov; or from the HHS/OPHS Office of Grants Management at 1-(240) 453-8822.

When submitting applications via the HHS/OPHS eGrants system, the applicant must submit a hard-copy of the application face page (Standard Form 424) with the original signature of an individual authorized to act for the applicant agency and assume the obligations imposed by the terms and conditions of the grant award. If required, the applicant will also need to submit a hard copy of the Standard Form LLL and/or certain Program-related forms (e.g., Program Certifications) with the original signature of an individual authorized to act for the applicant agency.

Electronic applications submitted via the HHS/OPHS eGrants system must contain all completed online forms required by the application kit, the Program Narrative, Budget Narrative and any appendices or exhibits. The applicant may identify specific mail-in items to send to the HHS/OPHS Office of Grants Management separate from the electronic submission; however the applicant must enter these mail-in items on the eGrants Application Checklist at the time of electronic submission, and HHS must receive them by the due date requirements specified above. Mail-In items may only include publications, résumés, or organizational documentation.

Upon completion of a successful electronic application submission, the HHS/OPHS eGrants system will provide the applicant with a confirmation page to indicate the date and time (Eastern Time) of the electronic application submission. This confirmation page will also provide a listing of all items that constitute the final application submission, including all electronic application components, required hard-copy original signatures, and mail-in items, as well as the mailing address of the HHS/OPHS Office of Grants Management to which the applicant must submit all required hard-copy materials.

As the HHS/OPHS Office of Grants Management receives items, the electronic application status will be updated to reflect the receipt of mail-in items. We recommend the applicant monitor the status of their applications in the HHS/OPHS eGrants system to ensure the receipt of all signatures and mail-in items.

Mailed or Hand-Delivered Hard-Copy Applications. The applicant who submit applications in hard copy (via mail or hand-delivered) must submit an original and two copies of the application. An individual authorized to act for the applicant agency or organization and to assume for the organization the obligations imposed by the terms and conditions of the grant award must sign the original application.

HHS will consider mailed or hand-delivered applications as having met the deadline if the HHS/OPHS Office of Grant Management receives them on or before 5 p.m. eastern time on the deadline date specified in the DATES section of the announcement. The application deadline date requirement specified in this announcement supersedes the instructions in the HHS/OPHS-1. HHS will return unread applications that do not meet the deadline.

The applicant should submit their applications to the following address: Director, Office of Grants Management, Office of Public Health and Science, U.S. Department of Health and Human Services, 1101 Wootten Parkway, Suite 550, Rockville, MD 20852.

4. Intergovernmental Review

This program is not subject to the review requirements of Executive Order 12372, Intergovernmental Review of Federal Programs.

5. Funding Restrictions

Allowability, allocability, reasonableness, and necessity of direct costs the applicant may charge appear in the following documents: OMB-21 (Institutes of Higher Education); OMB Circular A-122 (Nonprofit Organizations) and 45 CFR Part 74, Appendix E (Hospitals). Copies of these circulars are available on the Internet at the following Internet address: http://www.whitehouse.gov/omb. No pre-award costs are allowed.

6. Other Submission Requirements

N/A.

V. Application Review Information

1. Criteria

HHS/OGHA staff will screen the application for completeness and for responsiveness to the program guidance. The applicant should pay strict attention to addressing these criteria, as they are the basis upon which HHS/OGHA will judge the application. HHS/OGHA will return to the applicant without review any application judged non-responsive or incomplete.

An application that is complete and responsive to the guidance will undergo an evaluation for scientific and technical merit by an appropriate peer-review group specifically convened for this solicitation, and in accordance with HHS policies and procedures. The panel may contain both Federal and non-Federal representatives. As part of the initial merit review, the application will receive a written critique. The ad hoc peer-review group will discuss fully an application recommended for approval and will receive a priority score for funding. HHS/OGHA will assess the eligible application according to the following criteria:

(1) Technical Approach (40 points):

• The applicant's presentation of a sound and practical technical approach for executing the requirements with adequate explanation, substantiation and justification of the methods for handling the projected needs of the Afghan Ministry of Public Health.

• The successful applicant must demonstrate a clear understanding of the scope and objectives of the cooperative agreement, recognition of potential difficulties that may arise in performing the work required, presentation of adequate solutions, and understanding of the close coordination necessary between the HHS/OGHA, the Afghan Ministry of Public Health, the U.S. Agency for International Development, the U.S. Department of Defense, and other organizations, such as the World Health Organization and United Nations Children's Fund.

• The applicant must submit a strategic plan that outlines the schedule of activities and expected products of the Group's work with benchmarks at months six, 12. The strategic plan should specifically address the expected progress of the program to improve quality of care.

(2) Personnel Qualifications and Experience (20 points):

• Project Leadership—For the technical and administrative leadership of the project requirements, the successful applicant must demonstrate documented training, expertise, relevant experiences, leadership/management skills, and availability of a suitable overall project manager and surrounding management structure to successfully plan and manage the project. The successful applicant will provide documented history of leadership in the establishment and management of training programs that involve the training of health-care professionals in countries other than the United States. Expertise in maternal and child health-care, including documented training, expertise, relevant experience, local-language skills, leadership skills, and medical expertise specific to maternal and child health. The applicant must show the managerial ability to achieve delivery or performance requirements, as demonstrated by the proposed use of management and other personnel resources and to manage the project successfully, including subcontractor and/or consultant efforts, if applicable, as evidenced by the management plan and demonstrated by previous relevant experience.

• Partner Institutions and other Personnel—The applicant should provide documented evidence of availability, training, qualifications, local-language skills, expertise, relevant experience, education and competence of the scientific, clinical, analytical, technical and administrative staff and any other proposed personnel (including partner institutions, subcontractors and consultants), to perform the requirements of the work activities, as evidenced by résumés, endorsements and explanations of previous efforts.

• Staffing Plan—The applicant should submit a staffing plan for the conduct of the project, including the appropriateness of the time commitment of all staff and partner institutions, the clarity and appropriateness of assigned roles, and lines of authority. The applicant should also provide an organizational chart for each partner institution named in the application to show relationships among the key personnel.

• Administrative and Organizational Framework—The applicant should demonstrate the adequacy of the administrative and organizational framework, with their lines of authority and responsibility clearly demonstrated, and the adequacy of the project plan, with a proposed time schedule for achieving objectives and maintaining quality control over the implementation and operation of the project. The applicant should show the adequacy of back-up staffing and the evidence they will be able to function as a team. The framework should identify the institution that will assume legal and financial responsibility and accountability for the use and disposition of funds awarded on the basis of this RFA.

(3) Experience and Capabilities of the Organization (30 Points):

• The applicant should submit documented relevant experience of the organization in managing projects of similar complexity and scope of the activities in Afghanistan.

• The applicant should demonstrate the clarity and appropriateness of lines of communication and authority for coordination and management of the project, and the adequacy and feasibility of plans to ensure successful coordination of a multiple-partner collaboration.

• The applicant should document the experience in recruiting qualified medical personnel for projects of similar complexity and scope of activities in Afghanistan.

(4) Facilities and Resources (10 Points):

The applicant must document the availability and adequacy of facilities, equipment and resources necessary to carry out the activities specified under the “Program Requirements” Section of this announcement.

2. Review and Selection Process

The application will be reviewed by a panel of peer reviewers. Each of the above criteria will be addressed and considered by the reviewers in assigning the overall score. The Final award will be made by the Deputy Director, Asia and Pacific Division of the Office of Global Health Affairs on the basis of score, program relevance and, availability of funds.

VI. Award Administration Information

1. Award Notices

OGHA/HHS does not release information about individual applications during the review process until final funding decisions have been made. When these decisions have been made, the applicant will be notified by letter regarding the outcome of their applications. The official document notifying an applicant that an application has been approved and funded is the Notice of Award, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to state and local governments. The applicant funded under this announcement must be aware of and comply with these regulations. The CFR volume that includes parts 74 and 92 may be downloaded from http://www.access.gpo.gov/nara/cfr/waisidx_03/45cfrv1_03.html.

3. Reporting

The project is required to have an evaluation plan, consistent with the scope of the proposed project and funding level that conforms to the project's stated goals and objectives. The evaluation plan should include both a process evaluation to track the implementation of project activities and an outcome evaluation to measure changes in knowledge and skills that can be attributed to the project. Project funds may be used to support evaluation activities. In addition to conducting their own evaluation of projects, the successful applicant must be prepared to participate in an external evaluation, to be supported by OGHA/HHS and conducted by an independent entity, to assess efficiency and effectiveness for the project funded under this announcement.

Within 30 days following the end of each quarter, submit a performance report no more than ten pages in length and must be submitted to OGHA/HHS. A sample monthly performance report will be provided at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like the OGHA/HHS to undertake to alleviate a problem.

• Other pertinent information that will permit monitoring and overview of project operations.

• A quarterly financial report describing the current financial status of the funds used under this award. The awardee and OGHA will agree at the time of award for the format of this portion of the report.

Within 90 days following the end of the project period a final report containing information and data of interest to the Department of Health and Human Services, Congress, and other countries must be submitted to OGHA/HHS. The specifics as to the format and content of the final report and the summary will be sent to the successful applicant. At minimum, the report should contain:

• A summary of the major activities supported under the agreement and the major accomplishments resulting from activities to improve mortality in partner country.

• An analysis of the project based on the problem(s) described in the application and needs assessments, performed prior to or during the project period, including a description of the specific objectives stated in the grant application and the accomplishments and failures resulting from activities during the grant period.

Quarterly performance reports and annual reports may be submitted to: Mr. DeWayne Wynn, Grants Management Specialist, Office of Grants Management, OPHS, HHS, 1101 Wootton Parkway, Suite 550, Rockville, MD 20852, phone (240) 453-8822.

A Financial Status Report (FSR) SF-269 is due 90 days after the close of each 12-month budget period and submitted to OPHS—Office of Grants Management.

VII. Agency Contacts

For assistance on administrative and budgetary requirements, please contact: Mr. DeWayne Wynn, Grants Management Specialist, Office of Grants Management, OPHS, HHS, 1101 Wootton Parkway, Suite 550, Rockville, MD 20852, phone (240) 453-8822.

For assistance with questions regarding program requirements, please contact: Dr. Amar Bhat, Office of Global Health Affairs, Asia-Pacific Division, Office of the Secretary, Department of Health and Human Services, 5600 Fishers Lane, Suite 18-101, Rockville, MD 20857, phone: (301) 443-1410.

VIII. Tips for Writing a Strong Application

Include DUNS Number. You must include a DUNS Number to have your application reviewed. An application will not be reviewed without a DUNS number. To obtain a DUNS number, access http://www.dunandbradstreet.com or call 1-866-705-5711. Please include the DUNS number next to the OMB Approval Number on the application face page.

Keep your audience in mind. Reviewers will use only the information contained in the application to assess the application. Be sure the application and responses to the program requirements and expectations are complete and clearly written. Do not assume that reviewers are familiar with the applicant organization. Keep the review criteria in mind when writing the application.

Start preparing the application early. Allow plenty of time to gather required information from various sources.

Follow the instructions in this guidance carefully. Place all information in the order requested in the guidance. If the information is not placed in the requested order, you may receive a lower score.

Be brief, concise, and clear. Make your points understandable. Provide accurate and honest information, including candid accounts of problems and realistic plans to address them. If any required information or data is omitted, explain why. Make sure the information provided in each table, chart, attachment, etc., is consistent with the proposal narrative and information in other tables.

Be organized and logical. Many applications fail to receive a high score because the reviewers cannot follow the thought process of the applicant or because parts of the application do not fit together.

Be careful in the use of appendices. Do not use the appendices for information that is required in the body of the application. Be sure to cross-reference all tables and attachments located in the appendices to the appropriate text in the application.

Carefully proofread the application. Misspellings and grammatical errors will impede reviewers in understanding the application. Be sure pages are numbered (including appendices) and that page limits are followed. Limit the use of abbreviations and acronyms, and define each one at its first use and periodically throughout application.

Dated: September 12, 2006.
Sandra R. Manning,
Deputy Director for Operations and Management, Office of Global Health Affairs.

[FR Doc. E6-15503 Filed 9-18-06; 8:45 am]

BILLING CODE 4150-38-P